DEPARTMENT OF ENERGY

Federal Energy Regulatory Commission

Combined Notice of Filings

Take notice that the Commission has received the following Natural Gas Pipeline Rate and Refund Report filings:

Filings Instituting Proceedings

Docket Numbers: PR24-68-000.

Applicants: TC Louisiana Intrastate Pipeline LLC.

Description: § 284.123 Rate Filing: TC Louisiana Intrastate Pipeline LLC Petition for Rate Approval and SOC Baseline to be effective 5/1/2024.

Filed Date: 5/1/24.

Accession Number: 20240501-5303.

Comment Date: 5 p.m. ET 5/22/24.

Docket Numbers: RP24-738-000.

Applicants: Portland Natural Gas Transmission System.

Description: § 4(d) Rate Filing: Revised Fuel Allocation for PXP and WXP to be effective 6/1/2024.

Filed Date: 5/1/24.

Accession Number: 20240501-5213.

Comment Date: 5 p.m. ET 5/13/24.

Docket Numbers: RP24-739-000.

Applicants: Rover Pipeline LLC.

Description: § 4(d) Rate Filing: Summary of Negotiated Rate Capacity Release Agreements 5-1-2024 to be effective 5/1/2024.

Filed Date: 5/1/24.

Accession Number: 20240501-5228.

Comment Date: 5 p.m. ET 5/13/24.

Docket Numbers: RP24-740-000.

Applicants: ANR Pipeline Company.

Description: Compliance filing: 2024 Operational Purchases and Sales Report to be effective N/A.

Filed Date: 5/1/24.

Accession Number: 20240501-5229.

Comment Date: 5 p.m. ET 5/13/24.

Docket Numbers: RP24-741-000.

Applicants: El Paso Natural Gas Company, L.L.C.

Description: § 4(d) Rate Filing: Non-Conforming Agreements Update (AEPCO) to be effective 6/1/2024.

Filed Date: 5/1/24.

Accession Number: 20240501-5233.

Comment Date: 5 p.m. ET 5/13/24.

Docket Numbers: RP24-742-000.

Applicants: ANR Pipeline Company.

Description: § 4(d) Rate Filing: Cashout Surcharge 2024 to be effective 6/1/2024.

Filed Date: 5/1/24.

Accession Number: 20240501-5238.

Comment Date: 5 p.m. ET 5/13/24.

Docket Numbers: RP24-743-000.

Applicants: Gulf South Pipeline Company, LLC.

Description: § 4(d) Rate Filing: Regulatory Cost Recovery Mechanism to be effective 11/1/2024.

Filed Date: 5/1/24.

Accession Number: 20240501-5255.

Comment Date: 5 p.m. ET 5/13/24.

Docket Numbers: RP24-744-000.

Applicants: Southern Natural Gas Company, L.L.C.

Description: § 4(d) Rate Filing: SNG Rate Case—2024 to be effective 11/1/2024.

Filed Date: 5/1/24.

Accession Number: 20240501-5258.

Comment Date: 5 p.m. ET 5/13/24.

Docket Numbers: RP24-745-000.

Applicants: Gulfstream Natural Gas System, L.L.C.

Description: Compliance filing: 2024 GNGS TUP/SBA Annual Filing to be effective N/A.

Filed Date: 5/1/24.

Accession Number: 20240501-5295.

Comment Date: 5 p.m. ET 5/13/24.

Docket Numbers: RP24-746-000.

Applicants: Sabal Trail Transmission, LLC.

Description: § 4(d) Rate Filing: 2024 TUP/SBA Annual Filing to be effective 6/1/2024.

Filed Date: 5/1/24.

Accession Number: 20240501-5308.

Comment Date: 5 p.m. ET 5/13/24.

Docket Numbers: RP24-747-000.

Applicants: Gulf Run Transmission, LLC.

Description: Compliance filing: System Balancing Adjustment filed on 5-1-2024 to be effective N/A.

Filed Date: 5/1/24.

Accession Number: 20240501-5388.

Comment Date: 5 p.m. ET 5/13/24.

Docket Numbers: RP24-748-000.

Applicants: Gulf Run Transmission, LLC.

Description: Compliance filing: Operational Purchases and Sales of Gas Report Filed on 5-1-2024 to be effective N/A.

Filed Date: 5/1/24.

Accession Number: 20240501-5391.

Comment Date: 5 p.m. ET 5/13/24.

Docket Numbers: RP24-749-000.

Applicants: Gulf Run Transmission, LLC.

Description: § 4(d) Rate Filing: Transporter's Use Filing—Effective 6-1-2024 to be effective 6/1/2024.

Filed Date: 5/1/24.

Accession Number: 20240501-5397.

Comment Date: 5 p.m. ET 5/13/24.

Docket Numbers: RP24-750-000.

Applicants: Double E Pipeline, LLC.

Description: Annual System Balancing Adjustment of Double E Pipeline, LLC.

Filed Date: 5/1/24.

Accession Number: 20240501-5447.

Comment Date: 5 p.m. ET 5/13/24.

Docket Numbers: RP24-751-000.

Applicants: BBT Midla, LLC.

Description: Annual Unaccounted for Gas Retention Percentage of BBT Midla, LLC.

Filed Date: 5/1/24.

Accession Number: 20240501-5450.

Comment Date: 5 p.m. ET 5/13/24.

Docket Numbers: RP24-752-000.

Applicants: Ozark Gas Transmission, L.L.C.

Description: Annual Fuel Filing of Ozark Gas Transmission, L.L.C.

Filed Date: 5/1/24.

Accession Number: 20240501-5453.

Comment Date: 5 p.m. ET 5/13/24.

Docket Numbers: RP24-753-000.

Applicants: PDC Permian, Inc., Chevron U.S.A. Inc.

Description: Joint Petition for Temporary Waiver of Capacity Release Regulations, et al. of PDC Permian, Inc., et al.

Filed Date: 5/1/24.

Accession Number: 20240501-5487.

Comment Date: 5 p.m. ET 5/13/24.

Docket Numbers: RP24-754-000.

Applicants: Equitrans, L.P.

Description: § 4(d) Rate Filing: Formula Based Negotiated Rate Agreement—6/19/2024 to be effective 6/19/2024.

Filed Date: 5/2/24.

Accession Number: 20240502-5039.

Comment Date: 5 p.m. ET 5/14/24.

Docket Numbers: RP24-755-000.

Applicants: Dauphin Island Gathering Partners.

Description: § 4(d) Rate Filing: Chevron—Negotiated Rate effective 5-1-24 to be effective 5/1/2024.

Filed Date: 5/2/24.

Accession Number: 20240502-5082.

Comment Date: 5 p.m. ET 5/14/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-744-001.

Applicants: Southern Natural Gas Company, L.L.C.

Description: Tariff Amendment: Amendment RP24-744 SNG Rate Case—2024 to be effective 6/1/2024.

Filed Date: 5/2/24.

Accession Number: 20240502-5112.

Comment Date: 5 p.m. ET 5/14/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 2, 2024.
Debbie-Anne A. Reese,
Acting Secretary.

[FR Doc. 2024-10035 Filed 5-7-24; 8:45 am]

BILLING CODE 6717-01-P